FEDERAL MARITIME COMMISSION

[Docket No. 22-17]

Bakerly, LLC, Complainant. v. Seafrigo USA, Inc., Respondent; Notice of Filing of Complaint and Assignment

Served: July 27, 2022.

Notice is given that a complaint has been filed with the Federal Maritime Commission (Commission) by BAKERLY, LLC, hereinafter “Complainant,” against SEAFRIGO USA, INC., hereinafter “Respondent.” Complainant states that it is a New York corporation. Complainant states that Respondent is a New Jersey corporation, and that it is a non-vessel-common-carrier licensed by the Federal Maritime Commission.

Complainant alleges that Respondent violated 46 U.S.C. 41104(a)(2)(A); 46 U.S.C. 41104(a)(14)-(15); 46 U.S.C. 41102(c); and 46 CFR 545.5 with regard to assessing fees against containers. The full text of the complaint can be found in the Commission's Electronic Reading Room at https://www2.fmc.gov/readingroom/proceeding/22-17/. This proceeding has been assigned to Office of Administrative Law Judges. The initial decision of the presiding office in this proceeding shall be issued by July 27, 2023, and the final decision of the Commission shall be issued by February 9, 2024.

William Cody,
Secretary.

[FR Doc. 2022-16541 Filed 8-2-22; 8:45 am]

BILLING CODE 6730-02-P